COMMISSION ON CIVIL RIGHTS

Sunshine Act Meeting Notice

AGENCY: United States Commission on Civil Rights.

ACTION: Notice of Commission public business meeting.

DATES: Friday, June 25, 2021, 4:00 p.m. EST.

FOR FURTHER INFORMATION CONTACT: Angelia Rorison: 202-376-7700; publicaffairs@usccr.gov.

ADDRESSES: Meeting to take place by telephone and is open to the public by telephone: 887-260-1479, Conference ID #: 9200350. Computer assisted real-time transcription (CART) will be provided. The web link to access CART (in English) on Friday, June 25th, 2021, is https://www.streamtext.net/player?event=USCCR. Please note that CART is text-only translation that occurs in real time during the meeting and is not an exact transcript.

Meeting Agenda

I. Approval of Agenda

II. Business Meeting

A. Discussion and Vote on Release of Racial Disparities in Maternal Health Report

B. Discussion and Vote on Maternal Health Report Findings and Recommendations

III. Adjourn Meeting

Dated: June 21, 2021.
Angelia Rorison,
Media and Communications Director, U.S. Commission on Civil Rights

[FR Doc. 2021-13503 Filed 6-21-21; 4:15 pm]

BILLING CODE 6335-01-P